DEPARTMENT OF ENERGY

Federal Energy Regulatory Commission

[Docket Nos. ER05-1410-000 and EL05-148-000]

PJM Interconnection, LLC; Notice of Commission Technical Conference

December 8, 2005.

Take notice that the Commission will hold a technical conference on February 3, 2006, from 10 a.m. to 5 p.m. (EST) on the matters raised by the Reliability Pricing Model (RPM) filed on August 31, 2005, by PJM Interconnection, LLC (PJM). The technical conference will be held in a room to be designated at the Federal Energy Regulatory Commission, 888 First Street, NE., Washington, DC 20426. Members of the Commission will attend and participate in the conference. The conference will be open for the public to attend.

The conference will consist of panels addressing, but not limited to, the following issues of interest to the Commissioners:

1. Whether the current capacity obligation construct within PJM's market design provides for just and reasonable wholesale power prices in the PJM footprint, at levels that provide adequate assurance that necessary resources will be provided to assure reliability, or whether changes must be made to that capacity obligation construct;

2. Whether PJM's RPM proposal would provide for just and reasonable wholesale power prices in the PJM footprint, at levels that provide adequate assurance that necessary resources will be provided to assure reliability, or whether changes must be made to the proposal to meet those goals; and

3. Whether an alternative approach to RPM is necessary to ensure just and reasonable wholesale power prices in the PJM footprint.

The technical conference is intended to provide a forum through which the Commission will obtain information and develop a record on these topics. The Commission will issue a supplemental notice with information identifying panel participants and a detailed agenda prior to the conference. There will be an opportunity for parties to file comments following the technical conference.

The conference will be transcribed. A transcript of the conference will be immediately available from Ace Reporting Company (202) 347-3700 or (800) 336-6646 for a fee. It will be available for the public on the Commission's eLibrary system seven calendar days after FERC receives the transcript.

A free Webcast of this event is available through http://www.ferc.gov. Anyone with Internet access who wishes to view this event may do so by navigating to http://www.ferc.gov's Calendar of Events and locating this event in the Calendar. The event will contain a link to its Webcast. The Capitol Connection provides technical support for the Webcasts. It also offers access to this event via television in the Washington, DC area and via phone bridge for a fee. Visit http://www.CapitolConnection.org or contact Danelle Perkowski or David Reininger at the Capitol Connection (703) 993-3100 for information about this service.

FERC conferences are accessible under section 508 of the Rehabilitation Act of 1973. For accessibility accommodations please send an e-mail to accessibility@ferc.gov or call toll free (866) 208-3372 (voice) or (202) 208-1659 (TTY), or send a FAX to (202) 208-2106 with the required accommodations.

For further information on this conference, contact John McPherson at John.McPherson@ferc.gov, or Katherine Waldbauer at Katherine.Waldbauer@ferc.gov.

Magalie R. Salas,
Secretary.

[FR Doc. E5-7310 Filed 12-13-05; 8:45 am]

BILLING CODE 6717-01-P